DEPARTMENT OF STATE

[Public Notice: 7229]

Privacy Act; System of Records: Records of the Bureau of Public Affairs

SUMMARY: Notice is hereby given that the Department of State proposes to amend an existing system of records, Records of the Bureau of Public Affairs, State-22, pursuant to the provisions of the Privacy Act of 1974, as amended (5 U.S.C. 552a) and Office of Management and Budget Circular No. A-130, Appendix I. The Department's report was filed with the Office of Management and Budget on October 20, 2010.

It is proposed that the current system will retain the name “Records of the Bureau of Public Affairs.” It is also proposed that the amended system description will include revisions/additions to the following sections: System location; Categories of records; Routine uses; and Storage, Safeguards and Retrievability as well as other administrative updates. The following sections have been added to the system of records, Records of the Bureau of Public Affairs, State-22, to ensure Privacy Act of 1974 compliance: Purpose and Disclosure to Consumer Reporting Agencies.

Any persons interested in commenting on the amended system of records may do so by submitting comments in writing to the Director, Office of Information Programs and Services, A/GIS/IPS, Department of State, SA-2, 515 22nd Street, Washington, DC 20522-8001. This system of records will be effective 40 days from the date of publication, unless we receive comments that will result in a contrary determination.

The amended system description, “Records of the Bureau of Public Affairs, State-22,” will read as set forth below.

Dated: October 20, 2010.
Steven J. Rodriguez,
Deputy Assistant Secretary of Operations, Bureau of Administration, U.S. Department of State.

State-22

SYSTEM NAME:

Records of the Bureau of Public Affairs.

SECURITY CLASSIFICATION:

Unclassified.

SYSTEM LOCATION:

Department of State, 2201 C Street, NW., Rm 2214 Washington, DC 20520.

CATEGORIES OF INDIVIDUALS COVERED BY THE SYSTEM:

Media representatives who request interviews with the Secretary of State and/or Department principals; individuals who apply to accompany the Secretary of State on official travel; individuals who request building passes for access to the Department; individuals who request information from a press officer concerning an issue(s) or information about the Department and its policies; individuals who are on the mailing list for the Secretary's speeches; individuals who invite the Secretary or Department principals to accept a speaking engagement or attend a function; representatives of nongovernmental organizations throughout the United States; state and local government officials; and Department employees who have asked the Bureau of Public Affairs to place articles about their achievements in their hometown newspapers.

CATEGORIES OF RECORDS IN THE SYSTEM:

This system contains contact information for individuals who are involved in the operations of the Bureau of Public Affairs; travel records, assignments, biographies, speaking engagements, interviews and communications of Department Secretaries, principals and members of the media; records relating to requests for access to Department facilities; press releases; names of local media organizations; information on Department employees who asked the Bureau of Public Affairs to publish information/articles about them; and invitations sent to the Secretary and Department principals to include the name/organization of the requester, internal control number, assigned action office and status.

AUTHORITY FOR MAINTENANCE OF THE SYSTEM:

5 U.S.C. 301 (Management of Executive agencies); 22 U.S.C. 2651a (Organization of the Department of State); and 22 U.S.C. 3921 (Management of the Service/Secretary of State).

PURPOSE(S):

The purpose of soliciting this information is to enable the Bureau of Public Affairs to establish and maintain contact with the media, members of civil society organizations and the general public and circulate information to specific individuals or groups based on self-identified regional and policy interests.

ROUTINE USES OF RECORDS MAINTAINED IN THE SYSTEM, INCLUDING CATEGORIES OF USERS AND PURPOSES OF SUCH USES:

The records in this system may be disclosed to contact members of the media to inform them of events, travel opportunities, and status of building access requests; respond to media representatives' and general public inquiries on various topics; and prepare briefing materials for interviewees.

The information may be made available as a routine use to other U.S. Government agencies and the White House for purposes of planning and coordinating public engagement activities.

The Department of State periodically publishes in the Federal Register its standard routine uses that apply to all of its Privacy Act systems of records. These notices appear in the form of a Prefatory Statement. These standard routine uses apply to Records of the Bureau of Public Affairs, State-22.

DISCLOSURE TO CONSUMER REPORTING AGENCIES:

None.

POLICIES AND PRACTICES FOR STORING, RETRIEVING, ACCESSING, RETAINING AND DISPOSING OF RECORDS IN THE SYSTEM:

STORAGE:

Electronic, hardcopy.

RETRIEVABILITY:

By individual name.

SAFEGUARDS:

All users are given cyber security awareness training, including the procedures for handling Sensitive but Unclassified information including personally identifiable information. Annual refresher training is mandatory. Before being granted access to Records of the Bureau of Public Affairs, a user must first be granted access to the Department of State computer system.

Remote access to the Department of State network from non-Department owned systems is authorized only through a Department approved access program. Remote access to the network is configured with the Office of Management and Budget Memorandum M-07-16 security requirements, which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are retired in accordance with published Department of State Records Disposition Schedules as approved by the National Archives and Records Administration (NARA). More specific information may be obtained by writing the Director, Office of Information Programs and Services, Department of State, SA-2, 515 22nd Street, NW., Washington, DC 20522-8001.

SYSTEM MANAGER AND ADDRESS:

Deputy Assistant Secretary, Bureau of Public Affairs, Room 6800, Department of State, 2201 C Street NW., Washington, DC 20520.

NOTIFICATION PROCEDURES:

Individuals who have reason to believe that the Bureau of Public Affairs has records pertaining to them should write to the Director, Office of Information Programs and Services, Department of State, SA-2, 515 22nd Street, NW., Washington, DC 20522-8001.

RECORD ACCESS AND AMENDMENT PROCEDURES:

Individuals who wish to gain access to or amend records pertaining to them should write to the Director, Office of Information Programs and Services (address above).

CONTESTING RECORD PROCEDURES:

See above.

RECORD SOURCE CATEGORIES:

These records contain information obtained directly from the individual who is the subject of these records, the agency or organization that the individual represents, published directories and/or other bureaus in the Department.

SYSTEM EXEMPTED FROM CERTAIN PROVISIONS OF THE ACT:

None.

[FR Doc. 2010-28990 Filed 11-16-10; 8:45 am]

BILLING CODE 4710-24-P